NUCLEAR REGULATORY COMMISSION

[Docket No. 70-143]

Environmental Assessment and Finding of No Significant Impact of License Amendment for Nuclear Fuel Services, Inc., and Notice of Opportunity To Request a Hearing

AGENCY: Nuclear Regulatory Commission.

ACTION: Amendment of Nuclear Fuel Services, Inc., Materials License SNM-124 to Approve Partial Site Decommissioning Plan.

The U.S. Nuclear Regulatory Commission is considering the amendment of Special Nuclear Material License SNM-124 to approve the North Site Decommissioning Plan at the Nuclear Fuel Services, Inc., facility located in Erwin, TN, and has prepared an Environmental Assessment in support of this action.

ENVIRONMENTAL ASSESSMENT

1 Introduction

1.1 Background

Nuclear Fuel Services, Inc. (NFS) began operations at the Erwin, Tennessee facility in 1957. From then until 1981, portions of the North Site (NS) area were used for disposal of radioactive waste in accordance with 10 CFR 20.304. Since that time, the area has not been used for licensed operations. In 1991, NFS began partial remediation of the NS. These activities included removing the sludges from Ponds 1, 2, and 3, and removal of accessible waste in the Pond 4 area under authorization from the US Nuclear Regulatory Commission (NRC). Excavation of the (§ 20.304) burial area began in 1997. All previous work is authorized by license amendment and is not the subject of this environmental assessment. By request for license amendment dated July 30, 1999 (NFS North Site Decommissioning Plan, Rev. 1), NFS requested authorization to use the land use scenarios and residual radioactive concentrations described below to meet the requirements of suitability for release for unrestricted use as defined in NRC regulations. NFS has no plans at this time to release the NS area from their NRC license.

In 1997, NRC issued radiological criteria for license termination in 10 CFR part 20 subpart E. Section 20.1402 defines the radiological criteria for suitability for unrestricted use: 25 mrem/yr total effective dose equivalent from all pathways. As part of the rule-making to institute this regulation, an environmental impact statement determined that there was no significant impact on human health and safety at this level of exposure.

1.2 Geographic and Temporal Boundaries of the Environmental Assessment (EA)

The geographic scope of this EA is limited to the NS area of the NFS site, as defined in NRC license SNM-124. At the time of license termination for the entire NFS site, the results of the NS area final status survey may be reassessed in order to incude any possible dose contribution from the NS area in the dose assessment for the entire site and any impact from possible recontamination of the NS area.

Consistent with 10 CFR part 20, subpart E, the time of compliance for deriving the proposed cleanup levels is 1,000 years. Evaluation of dose impacts past this point is not considered to be necessary. When predicting thousands of years into the future, uncertainties become very large because of major potential changes in the hydrogeologic regime at the site over such long periods of time. The consequences of exposure to residual radioactivity levels such as those proposed are small and considering the large uncertainties, long-term modeling of possible doses would have little value. In addition, because of the long half-lives of the radioactive materials in question, no significant changes in potential impacts are anticipated until thousands of years after release.

2 Purpose and Need for Proposed Action

The licensee is remediating the North Site area so that it will be suitable for unrestricted use in accordance with the criteria in 10 CFR 20.1402. This action is required by 10 CFR 70.38 (Timeliness Rule) and a 1994 NRC Order.

3 Description of Proposed Action

Approval of the license amendment request will authorize decommissioning of the North Site by removal of contaminated soil to levels at or below the proposed derived concentration guideline levels (DCGLs) presented in Table 1. These levels were calculated using the RESRAD computer code so that the indicated concentration of a single isotope would comply with a dose limit of 25 mrem/yr specified in 10 CFR 20.1402. If multiple isotopes are present, the individual concentration limits will be reduced to comply with the dose limit. Meeting these levels will permit release of the property for unrestricted use. Groundwater encountered during soil excavation will be pumped and treated at either the Wastewater or Groundwater Treatment Facilities. Upon completion of soil remediation, a final status survey of the North Site will be performed. Backfill of remediated areas with clean soil will begin after the final status survey demonstrates the area has been sufficiently decommissioned. Groundwater will be monitored for several years after excavation to determine uranium levels once residual radioactivity in soil is reduced to acceptable levels.

Also, pursuant to the hazardous waste permit issued to NFS in 1991-1993 under Resource Conservation and Recovery Act/Hazardous and Solid Waste Amendments (RCRA/HSWA) authority, EPA and TDEC are also requiring NFS to conduct appropriate monitoring, groundwater pilot studies and remediation until the EPA and Tennessee drinking water standards for hazardous and radioactive constituents are satisfied. This permit will also be used to establish and enforce any necessary institutional controls.

3.1 Proposed Action: Release for Unrestricted Use

The proposed action is to remove solid waste material from the existing burial areas, previously disposed in accordance with 10 CFR 20.304, and to remove contaminated material and soil until the residual concentrations of radionuclides are at or below those shown in Table 1. The major activities include the following:

Remove Building 400, surrounding tanks, utilities, and structures.¹

¹ These tasks will begin prior to approval of this plan. Removal of Building 400 and associated utilities and equipment is being performed under the NRC approved decommissioning plan for Ponds 1, 2, and 3 (NFS 1991).

Decontaminate and Decommission (D & D) ² area north of Banner Spring working east to west. The excavation area is bounded by Banner Spring Branch and the security zone.

² D&D of the area includes excavating contaminated soil, conducting a final survey of the area, and backfilling the excavation. D&D of some areas may be performed concurrently (i.e., excavation of one area may begin before backfilling of another area is completed).

Relocate or temporarily reroute Banner Spring Branch and the plant drainage system.

D&D Banner Spring Branch streambed and Ponds 1 and 2.

D&D Banner Spring Branch outside the protected area.

D&D security zone areas.

D&D northwest area.

Remove 205 Substation and the guard tower and D&D area.

Remove Building 410 and D&D area.

Table 1—Soil/Sediment DCGLs ¹ (ρ Ci/g) for North Site Decommissioning
Radionuclide | DCGL ²,³
U-238 | 306
U-235 | 74
U-233/234 ⁴ | 642
Th-232 | 3.7
Th-230 | 17
Am-241 | 130
Pu-242 | 148
Pu-241 | 4365
Pu-240 | 141
Pu-239 | 140
Pu-238 | 155
Tc-99 | 414
¹ Values are for single nuclides; actual residual concentrations will be calculated using unity rule.
² Ingrowth of daughters radionuclides are taken into account in these DCGLs.
³ DCGLs derived using RESRAD pathway analysis model.
⁴ DCGL for U233/234 is collectively proposed.

Contaminated soil which exceeds the applicable release criteria will be stockpiled and covered as appropriate, transported to Building 410 or another area for processing, or loaded directly into containers. This material will be disposed in a licensed facility. Details of this alternative are provided in Section 3 of the NFS North Site Decommissioning Plan. Soils that meet the criteria in Table 1 will remain on site.

3.2 Analyses

A dose assessment was performed by NFS for both industrial or suburban residential use of the land after license termination. The licensee selected radionuclide-specific DCGLs for the soil from this dose assessment and selected the most restrictive limit for the radionuclide from the set of scenarios.³ These DCGLs are listed in Table 1 above. Because the limits are radionuclide-specific, the licensee would then use the sum of fractions to verify that the final concentrations result in a dose equal to or less than 0.25 mSv/y (25 mrem/y).

³ NFS's report “Potential Dose Due to Radioactive Contamination in Soil and Groundwater in the North NFS Plant Site, Revision 1.”

As part of the analysis, the licensee proposed that groundwater pathways be eliminated from consideration as part of the dose modeling for soil DCGLs. The staff has agreed with this approach for the following reasons:

• The water in the shallow aquifer is of lower quality, is in contact with a marsh, and contaminated above EPA limits for drinking water with pollutants not related to operations at the site;

• There are readily available sources of inexpensive, clean water at the site;

• Based on current practices and water-well regulations in the region, a new well would not tap the shallow, unconsolidated aquifer in the North Site area, which is located within the 100-year flood plain of the Nolichucky River;

• Only a small portion of the shallow aquifer of the North Site is contaminated at levels that would cause drinking water dose above NRC's regulatory limit; and

• The licensee is committed to implementing appropriate remediation of contaminated groundwater under the continued authority of the EPA and TDEC RCRA/HSWA permit.

Therefore, the calculation of soil DCGLs with no water-borne pathways is a reasonable assessment of potential future dose estimates.

4 Decommissioning Alternatives

NRC considered alternatives to the proposed action. These are described below.

4.1 No Action

This alternative is to leave the site in its current, contaminated condition. This would leave large volumes of contaminated soil and groundwater. Leaving the site in this condition would not comply with NRC regulations requiring remediation of unused outdoor areas and poses a potential threat to public health and safety. Therefore, this alternative is not acceptable.

4.2 Alternative Actions Considered and Decision Rationale

4.2.1 Approval of the amendment request, but with additional conditions restricting use of the site to industrial development only with no groundwater use.

A dose assessment was performed by NFS for both the postulated industrial land-use scenario and a construction scenario. Results of this dose assessment were used to determine radionuclide-specific dose-to-source factors (mrem/y per pCi/g in soil) for site contaminants. These are presented in the NFS report “Potential Dose Due to Radioactive Contamination in Soil and Groundwater in the North NFS Plant Site, Revision 1”. Based on TEDE dose limits of 25 mrem/y to the average member of the critical group (industrial worker and/or construction worker) and 100 mrem/y if controls failed, these dose-to-source factors were used to derive a set of restricted release soil concentration guideline levels (CGLs). Site characterization results were compared (on a sum-of-fractions basis) to the set of restricted-release DCGLs to estimate the volume of soil that would need to be removed from the site to meet the DCGLs. Approximately 864,000 ft ³ of material (including an estimated 500,000 ft ³ of debris and soil from the North Site burial trenches) was determined to require removal to achieve the set of restricted-release DCGLs. This alternative was rejected by NFS because it does not meet the goal of unrestricted release at license termination.

4.2.2 Approval of the amendment request, but with additional conditions imposing legally enforceable restrictions prohibiting use of groundwater.

This alternative is similar to 4.3, but does not limit land use to industrial activities. It would add a prohibition against the use of groundwater from the shallow alluvial formation. The remediation activities are the same as those in the proposed alternative. NFS has presented data on current use of land and groundwater that demonstrates that there is no anticipated use of the groundwater in the alluvial formation because it is of poor quality and because of the availability of inexpensive, high quality water from the City of Erwin (see § 3.2). Current zoning in the area is for industrial use and the immediate surrounding area is classified as suburban residential. Therefore, subsistence farming is not likely to occur in the area, and City water will be used for all activities requiring water, such as consumption, bathing, watering lawns, etc. This alternative is rejected because the addition of institutional controls is deemed not to provide significant benefit, and to add to the cost of decommissioning because of the provision to 10 CFR 20.1403(e) requiring funds in perpetuity for a third party to implement the controls. Furthermore, it is not necessary for NRC to establish requirements prohibiting use of ground water, as EPA and TDEC are requiring remediation to drinking water standards (see Section 3.0 above).

4.3 Alternatives Considered and Rejected.

Require remediation of both groundwater and soil to levels such that the dose from all pathways meets criteria for unrestricted use.

This alternative would require calculation of the dose from existing contamination in both soil and water-borne sources. Then, residual contamination limits in both media must be calculated. The residual concentration in both media must then be reduced to levels that would limit the all-pathways-dose to 25 mrem/yr.

This alternative is rejected for the following reasons: (a) The water in the shallow aquifer is of lower quality, in contact with a marsh, and contaminated above EPA limits for drinking water with pollutants not related to operations at the site; (b) there are readily available sources of inexpensive, clean water at the site; (c) based on current practices and water-well regulations in the region, a new well would not tap the shallow, unconsolidated aquifer in the North Site area, which is located within a 100-year flood plain; (d) only a small portion of the shallow aquifer of the North Site is contaminated at levels that would cause drinking water dose above NRC's regulatory limit; and (e) The licensee is committed to implementing appropriate remediation of contaminated groundwater under the continued authority of the EPA and TDEC RCRA/HSWA permit. Further, there would be large additional cost to ship more than 300,000 ft ³ of moderately contaminated soil to a licensed disposal facility.

5 Affected Environment

5.1 Site Location and Physical Description

The NFS facility is located immediately south of Erwin, Tennessee. Erwin is a town of about 6,000 people located in Unicoi County, about 15 mi (24 km) south of Johnson City and 120 mi (190 km) east of Knoxville, TN. Unicoi County is 200 mi ² (520 km ²) in NE Tennessee and has a population of about 20,000. The area surrounding Erwin is mostly within the Cherokee National Forest. The facility comprises about 62 acres (25 ha), of which about 24 acres (9.7 ha) are designated as the North Site area. The site is situated in a valley that parallels the Nolichucky River, running roughly NE-SW. To the southeast, the land rises up Banner Hill and on to the Unaka mountains; to the west across the Nolichucky River is Looking Glass Mountain.

5.1.1 Climate

The climate in the Erwin area is temperate with an average annual temperature high of 73°F and an average low of 38°F (USDA 1985). The average high in January is 46°F and the low is 25°F. The average high in July is 87°F and the low is 63°F. Precipitation is moderate and evenly distributed throughout the year. The average annual precipitation for Erwin is 43.83 inches (based on data from 1967-1990). The average seasonal snowfall in Erwin is 15 inches and occurs within a five-month period (November-March) (USDA 1985). Prevailing wind is from the south-southwest. Average monthly wind speed is highest, 8 mph, in March (USDA 1985). Atmospheric data are maintained at Erwin Utilities and at NFS.

5.1.2 Surface Water

Surface water runoff from NFS drains to Martin Creek either directly through two 42-inch culverts parallel to the northwest site boundary, or indirectly via Banner Spring Branch. Martin Creek discharges to the Nolichucky River via North Indian Creek. Characteristics of Banner Spring Branch, Martin Creek, and the Nolichucky River are summarized below.

Banner Spring Branch: Banner Spring Branch emanates from a spring (Banner Spring) located on the NFS property upgradient of manufacturing facilities. The source of Banner Spring is probably fracture controlled groundwater from the mountains southeast of the site. Banner Spring has a continuous flow rate of about 300 gallons/minute. Neither Banner Spring nor Banner Spring Branch are used as a source of drinking water. Along the northern corner of the site, Banner Spring Branch empties into Martin Creek, a stream that runs along the northeast boundary of the NFS property.

Martin Creek: The base flow of Martin Creek is 1,000 to 5,000 gallons per minute with seasonal variations. Martin Creek originates in the Unaka mountains southeast of Erwin at an elevation near 4,000 feet above sea level. It follows a very straight course near the NFS site leading some investigators to conclude that its course follows a strike slip fault adjacent to or downstream of the NFS site. Martin Creek is a tributary to North Indian Creek, which empties into the Nolichucky River approximately one and one-half miles north of the NFS property.

Nolichucky River: The Nolichucky River originates in the North Carolina mountains to the southeast and has an average flow rate of 450,000 gallons/minute. In the vicinity of NFS, the river follows a relatively straight course parallel to the long axis of the facility (southwest to northeast) and is generally located from 800 to 1,000 feet to the facility's northwest. The nearest public water supply on the Nolichucky River, downstream of the plant site, is the town of Jonesborough, Tennessee, located approximately eight miles northwest of Erwin.

5.1.3 Geology and Groundwater

The geology consists of six to fifteen feet of unconsolidated alluvium consisting of silts and clays, clayey sand, and sand with varying amounts of gravel and cobble. The alluvium coarsens with depth into cobbles and boulders. This cobble/boulder zone overlies weathered, fractured bedrock consisting of steeply dipping beds of shale or shale interbedded with dolomite and siltstone. The bedrock exists at depths ranging from approximately seven to twenty-nine feet below ground surface (EcoTek 1994). Both the alluvium and the shallow bedrock contain groundwater under unconfined conditions. No laterally continuous physical separation exists between the two lithologies. Recharge to the alluvium and shallow bedrock is predominantly from downward infiltration of rainwater through the vadose zone. Some upward component of flow is evident within the deeper bedrock (50+ feet) which is probably the result of higher elevation recharge through fracture systems in the mountains to the southeast. Measured heads in the bedrock wells are consistent with and indicative of a nonfractured dominated flow regime. The thinly bedded, poorly competent nature of the bedrock may contribute to flow patterns more analogous to the porous media model than the fracture flow model. Limited evidence, such as high well yields, exists for structure or fracture controlled movement of groundwater in the deeper zone (EcoTek 1994).

5.2 Facility Operations

The North Site area has two former burial sites of waste disposed under 10 CFR 20.302 and 20.304, three wet ponds used to hold process waste, and a wetlands area. There is one temporary building (410) in the southwest part of the area. Prior to that time the area was a farm, as was much of the surrounding area.

The area being decommissioned is located both inside and outside of the plant protected area which is defined by a double security fence. Within the protected area are Banner Spring Branch, a small marsh, open grass-covered grounds, the three surface impoundments, and Pond 4. Banner Spring Branch runs through the property originating in the east just outside the security fence and discharging into Martin Creek to the north. The grounds outside the plant protected area, but inside the outer access control fence (the perimeter fence), include grass-covered fields, wooded areas, and a marsh. Also present are a burial ground and a demolition landfill. Trees cover most of the grounds outside the perimeter fence. Temporary buildings located in the area to be decommissioned include steel frame, metal buildings. These buildings are currently used in support of remediation activities. Five trailers located in the area provide offices, break area, showers and storage. Four small (less than 100 ft ² sheds located in the characterization area house analytical equipment environmental sampling equipment (Banner Spring Branch Sampling Station and Sanitary Sewer Sampling Station), water control equipment (Backflow Preventer Bldg.), and vehicle cover. Other structures include a locked guard tower, a series of abandoned, partially intact residences located in the woods in the northeast area of the site, concrete pads for support of remediation equipment, fencing, light poles, electrical distribution facilities, pipes and conduits, a concrete drainage ditch, enclosed culverts, and miscellaneous equipment (e.g., knockout tank, bladder tanks).

5.3 Radiological Status of the Facility

5.3.1 Radiological status of structures and equipment

Direct surveys were limited to four sampling sheds and a guard tower which are not likely to be affected by remediation efforts. Surveys found the amount of activity present on these structures to be below the surface contamination limits in NFS’ SNM-124 license. All other structures in the North Site will be used to support decommissioning operations and will be surveyed at the time of their release from the site.

5.3.2 Radiological Status of Surface and Subsurface Soils

The primary radioactive contaminants in the North Site are uranium (U-234, U-235, and U-238), thorium (Th-228, Th-230, and Th-232), plutonium (Pu-238, Pu-239/240, Pu-241, and Pu-242), americium 241, and technetium 99. Levels of radioactive contamination currently exceed the release criteria in soil and sediment across much of the North Site inside the plant protected area. Contamination above the criteria is present down to the level of auger refusal in much of the protected area. Contamination also exists between the cobbles. Only a portion of the north east corner of the plant protected area is not contaminated above the release criteria.

Areas outside the plant protected area that exceed the release criteria include soil/sediment surrounding Banner Spring Branch, the burial trenches, the contaminated soil mound area, and isolated occurrences between the radiological burial ground trenches and Banner Spring Branch. Radioactive contamination primarily occurs on the surface and does not extend beyond a depth of about four feet except in the burial ground where it extends approximately 4-5 meters. Analytical results from the burial trench cap indicated only a few isolated areas where contamination was present above the release criteria. There is no indication that soil contamination extends off-site to the north and east. Radiological soil contamination to the west of the North Site is bounded by the former streambed of Banner Spring Branch which was released by the NRC in 1987 (NRC 1987). Soil beneath the current microwave security zone (area between the inner and outer fences) at the west site boundary was not included in the NRC release and is contaminated above the release criteria.

5.3.3 Radiological Status of Ground and Surface Water

Banner Spring Branch and Martin Creek contain contamination below effluent concentration limits in Appendix B to 10 CFR part 20. Groundwater throughout the North Site Area is contaminated to varying levels ranging from a few ρCi/l, below release limits, to more than 600 ρCi/l. The primary contaminants are isotopes of uranium and technetium-99. Tc-99 is present in off-site wells to the west of the site boundary in concentrations above background, but a small fraction (~1%) of EPA limits. Uranium has not yet been detected off-site. Based on no ground water remediation, NFS projections calculate concentrations exceeding 30 ρCi/l in the alluvial ground water migrating beyond the site boundary as early as 2003; migration in the deeper levels—cobbles and shallow bedrock—occurs at a slower rate, but is calculated to exceed 30 ρCi/l beyond the site boundary within 1,000 years. (Geraghty & Miller, 1996)

6 Environmental Impacts

6.1 Adverse Impacts

The International Commission on Radiological Protection has determined that the current level of protection from radiation for man will ensure that other species are not put at risk (ICRP, 1990). The Department of Energy has issued an interim standard with screening dose limits for aquatic animals (1 rad/d), riparian and terrestrial animals (0.1 rad/d), and terrestrial plants (1 rad/d). These doses are in excess of the 25 mrem/yr limit for the release of this site. Therefore, no separate environmental risk assessment was performed.

6.1.1 Radiological Impacts to the Public and Workers

Material contaminated above release limits will be shipped to a licensed disposal facility. The licensee's radiological protection program, which is described in Chapter 4 of the Decommissioning Plan, requires use of hazardous work permits, etc. that will limit doses to workers to less than or equal to the limits in 10 CFR part 20.

Minor spills and/or releases may occur as contaminated soil is being prepared for shipment or during transport to an offsite disposal facility. However, considering that the majority of the waste stream expected to be generated during decommissioning comprises contaminated soil, these incidents would pose only negligible impact to human health and the environment. In the event of a spill of this nature, decontamination efforts and any required notification would be performed in accordance with the NFS Emergency Plan and emergency procedures.

Residual concentrations of radionuclides in soil are shown in Table 1. Based on the industrial and suburban resident land use scenarios, the radiological impact from the residual contamination will not exceed 25 mrem/yr the public.

6.1.2 Non-Radiological Impacts

Portions of the site, primarily the groundwater, are contaminated with solvents (PCE, TCE, etc.) from NFS activities. These materials are the subject of an EPA and TDEC RCRA/HSWA Permit requiring investigation and remediation to EPA and Tennessee standards in a time-frame agreed upon between EPA, TDEC and NFS. Therefore they are not addressed in this EA. However, a pilot groundwater remediation study has recently been implemented to accommodate all groundwater contaminants, i.e., radioactive and non-radioactive.

6.1.3 Historical and Archaeological Resources

After considering the documentation submitted, it is the opinion of the Tennessee Historical Commission that there are no national register of historic places listed or eligible properties affected by this undertaking. This determination is made either because of the location, scope and/or nature of the undertaking, and/or because of the size of the area of potential effect; or because no listed or eligible properties exist in the area of potential effect; or because the undertaking will not alter any characteristics of an identified eligible or listed property that qualified the property for listing in the National Register or alter such property's location, setting or use. Therefore, this office has no objections to proceeding with the project.

6.1.4 Terrestrial Biota

There is a Federally Threatened Plant in the vicinity of the NFS site: Virginia spiraea (Spiraea virginiana). Because of the industrial nature of the NFS site and surrounding area, there is no suitable habitat for this species at the site.

6.1.5 Aquatic Biota

There is a Federally Endangered mussel species, Appalachian elktoe (Alasmidonta raveneliana), near the confluence of the Nolichucky River and South Indian Creek. Because this is upstream of the confluence of the Nolichucky River and Martin Creek and the NFS site, no impact is expected on this species. No discharges from NFS into Martin Creek are expected from decommissioning activities.

6.1.6 Wetlands

There is a wetland area (0.2 acres) near Pond 3 and Banner Spring that will be removed as part of the proposed decommissioning activities. This will be replaced with a larger one (0.4 acres) in the northeast corner of the North Site Area in accordance with a permit from TDEC. Banner Spring Branch will be relocated and enclosed in a pipe for the balance of plant life. To compensate for this, NFS will improve a wetland area near the federal fishery, approximately three miles north of the site. TDEC and US Fish and Wildlife Service will authorize this activity by a Memorandum of Agreement with NFS.

6.1.7 Water Resources

No ground water remediation will take place as part of the proposed alternative. The existing contamination, primarily uranium and technetium, will remain in the alluvial groundwater. Some uranium and technetium are calculated to migrate off-site to the west in the shallow groundwater. As discussed in Section 3.0, NFS will remediate ground water to drinking water standards in the future. However, this groundwater will not be used as a water supply. Therefore, it will not contribute to a dose to members of the public. Vertical migration of the contamination is also calculated, but it is not expected to reach the deep aquifer, that is used as a drinking water supply, within 1,000 years.

Banner Spring Branch will be relocated during remediation activities as discussed in § 6.1.6 above.

6.1.8 Construction Impacts

No building construction will occur in this action except the removal of temporary building 410, at the completion of remediation. No adverse effects will occur in the environment from this activity.

6.2 Impacts to Aesthetic, Economic, Cultural, Social, Air Quality, Noise Resources and Habitat Destruction

There will be no discernable impacts on aesthetics, socio-economics or cultural resources because the work is being done by existing staff and the physical configuration of the facility will remain the same as current.

There may be minor, temporary impacts on air quality and noise during remediation activities. NFS has dust control measures in place, and the use of equipment will not significantly change from the current industrial environment.

A part of a marsh area (wetland) will be destroyed as part of the remediation activities. This area will be replaced as discussed in Section 6.1.6 above.

7 Planned Monitoring

This area will remain within licensee control and will be monitored in accordance with the pertinent provision of the license for operational and environmental monitoring.

8 Agencies and Individuals Consulted, and Sources Used

8.1 Environmental Protection Agency

EPA Region IV has reviewed the proposed action and:

• Concurs with the rationale that the groundwater pathway can be eliminated from consideration in calculating soil cleanup levels and radioactive doses from the sources of the North Site

• Maintain that the RCRA/HSWA Permit issued to NFS will be used to enforce appropriate groundwater pilot studies and necessary groundwater remediation of all contaminated groundwater according to the most recent “Handbook of Groundwater Policies for RCRA Corrective Action” (EPA 530-D-00-001, updated 4/40/2000). See http://www.epa.gov/correctiveaction

• Maintain that the RCRA/HSWA Permit issued to NFS will be used to enforce appropriate and necessary layered institutional controls (ICs) according to the EPA document titled “Institutional Controls: A Site Manager's Guide to Identifying, Evaluating and Selecting Institutional Controls at Superfund and RCRA Corrective Action Cleanups'' (EPA 540-F-00-005, OSWER 9355.0-74FS-P, dated September 2000). Some examples of ICs include easements, covenants, well drilling prohibitions, zoning restrictions, and special building permit requirements. Deed restriction is a phrase often used in remedy decision documents to describe easements or other forms of ICs; however, this is not a traditional property law term and will be avoided. Because fences are physical barriers instead of administrative or legal measures, they are not considered to be ICs.

8.2 Tennessee Department of Environment and Conservation

The State has reviewed the proposed action and concurs with the conclusion regarding radiological dose and approval of the North Site Decommissioning Plan.

8.3 Tennessee State Historic Preservation Officer (SHPO)

After considering the documentation submitted, it is SHPO's opinion that there are no national register of historic places listed or eligible properties affected by this undertaking.

8.4 U.S. Fish and Wildlife (US FWS)

The US FWS has determined that no listed species will be impacted by the proposed action. FWS also concludes that the EA supports the conclusion that the proposed action is not likely to adversely affect the environment. A Memorandum of Agreement between TDEC, USFWS and NFS will be developed to regulate activities near the federal fishery.

9 References

U.S. Nuclear Regulatory Commission (NRC). 1987. Official Correspondence from Leland C. Rouse, Chief, Fuel Cycle Safety Branch, to NFS. July 24, 1987.

U.S. Department of Agriculture Soil Conservation Service. 1985. Soil Survey of Unicoi County, Tennessee. Carlie McCowan. September 1985.

International Commission on Radiological Protection. 1990. ICRP 60 § 16.

NRC approved decommissioning plan for Ponds 1, 2, and 3 (NFS 1991).

EcoTek 1994. 1992/1993 NFS Hydrogeologic Investigation and Monitoring Well Installation Program. EcoTek, Inc. June 30, 1994.

Nuclear Fuel Services, Inc. (NFS). 1999a. Potential Dose to Radiological Contaminants in North Site Soil and Groundwater, Revision 1. February 1999.

Final Report: Groundwater and Constituent Transport modeling at the Nuclear Fuel Services Facility; Geraghty & Miller, Inc. 4/99.

NFS North Site Decommissioning Plan, Revision 1, 7/99.

Nuclear Fuel Services, Inc. (NFS). 1999. North Site Characterization Report for Nuclear Fuel Services, Inc., Erwin, Tennessee, Revision 1. July 1999.

U.S. Department of Energy. Interim Technical Standard “A Graded Approach for Evaluating Radiation Doses to Aquatic and Terrestrial Biota.” June 2000.

Tennessee Historical Commission 2000. Letter from R. L. Harper to Larry W. Camper. December 19, 2000.

U.S. Environmental Protection Agency, Region 4 2001. Letter from Leo J. Romanowski, Jr. to Phil Ting. February 21, 2001.

Tennessee Department of Environment and Conservation 2001. Letter from Debra Schults to Phil Ting. February 20, 2001.

U.S. Fish and Wildlife Service. Letter from Steven Alexander, U.S. FWS to J.C. Shepherd, April 18, 2001.

Finding of No Significant Impact

The Commission has prepared the above Environmental Assessment related to the amendment of Special Nuclear Material License SNM-124. On the basis of the assessment, the Commission has concluded that environmental impacts associated with the proposed action would not be significant and do not warrant the preparation of an Environmental Impact Statement. Accordingly, it has been determined that a Finding of No Significant Impact is appropriate.

In accordance with 10 CFR 2.790 of the NRC's “Rules of Practice,” the Environmental Assessment and the documents related to this proposed action will be available electronically for public inspection from the Publicly Available Records (PARS) component of NRC's document system (ADAMS). ADAMS is accessible from the NRC Web site at http://www.nrc.gov/NRC/ADAMS/index.html (the Public Electronic Reading Room).

Opportunity For a Hearing

Based on the EA and accompanying safety evaluation, NRC is preparing to amend License SNM-124. The NRC hereby provides that this is a proceeding on an application for amendment of a license falling within the scope of Subpart L, “Informal Hearing Procedures for Adjudication in Materials Licensing Proceedings,” of NRC's rules and practice for domestic licensing proceedings in 10 CFR Part 2. Pursuant to § 2.1205(a), any person whose interest may be affected by this proceeding may file a request for a hearing in accordance with § 2.1205(d). A request for a hearing must be filed within thirty (30) days of the date of publication of this Federal Register notice.

A request for hearing or petition for leave to intervene must be filed with the Secretary of the Commission, U.S. Nuclear Regulatory Commission either:

1. By delivery to the Rulemakings and Adjudications Staff of the Secretary at One White Flint North, 11555 Rockville Pike, Rockville, MD 20852-2738; or

2. By mail or telegram addressed to the Secretary, U.S. Nuclear Regulatory Commission, Washington, DC 20555-0001. Attention: Rulemakings and Adjudications Staff.

In addition to meeting other applicable requirements of 10 CFR part 2 of the NRC's regulations, a request for a hearing filed by a person other than an applicant must describe in detail:

1. The interest of the requester in the proceeding;

2. How that interest may be affected by the results of the proceeding, including the reasons why the requestor should be permitted a hearing, with particular reference to the factors set out in § 2.1205(h).

3. The requester's areas of concern about the licensing activity that is the subject matter of the proceeding; and

4. The circumstances establishing that the request for a hearing is timely in accordance with § 2.1205(d).

In accordance with 10 CFR § 2.1205(f), each request for a hearing must also be served, by delivering it personally or by mail to:

1. The applicant, Nuclear Fuel Services, Inc., 1205 Banner Hill Road, Erwin, TN 37650; and

2. The NRC staff, by delivering to the Executive Director for Operations, One White Flint North, 11555 Rockville Pike, Rockville, MD 20852, or by mail, addressed to the Executive Director for Operations, U.S. Nuclear Regulatory Commission, Washington, DC 20555.

The NRC contact for this licensing action is Mary T. Adams, who may be contacted at (301) 415-7249 or by e-mail at mta@nrc.gov for more information about the licensing action.

Dated at Rockville, Maryland, this 3rd day of May 2001.
For the Nuclear Regulatory Commission
Lidia A. Roche,
Acting Chief, Fuel Cycle Licensing Branch, Division of Fuel Cycle Safety and Safeguards, Office of Nuclear Material Safety and Safeguards.

[FR Doc. 01-11755 Filed 5-15-01; 8:45 am]

BILLING CODE 7590-01-P